Title 3—

The President

Memorandum of August 29, 2012

Delegation of Certain Functions and Authority Under Section 5(a) of the Tom Lantos Block Burmese Junta's Anti-Democratic Efforts Act of 2008

Memorandum for the Secretary of State

By the authority vested in me as President by the Constitution and the laws of the United States of America, I hereby delegate to you the functions and authority conferred upon the President by section 5(a)(2) of the Tom Lantos Block Burmese Junta's Anti-Democratic Efforts Act of 2008 (Public Law 110-286) (the “Act”), to waive the visa ban under section 5(a)(1) of the Act, and to make the specified certification to the Congress.

You are authorized and directed to publish this memorandum in the Federal Register.

THE WHITE HOUSE,

Washington, August 29, 2012

[FR Doc. 2012-23042

Filed 9-14-12; 11:15 am]

Billing code 4710-10-P